DEPARTMENT OF ENERGY

Federal Energy Regulatory Commission

[Docket No. EC00-144-000]

Reliant Energy Coolwater, LLC, et al.; Notice of Filing

October 11, 2000.

Take notice that on September 27, 2000, Reliant Energy Coolwater, LLC, Reliant Energy Desert Basin, LLC, Reliant Energy Ellwood, LLC, Reliant Energy Etiwanda, LLC, Reliant Energy Indian River, LLC, Reliant Energy Mandalay, LLC, Reliant Energy Maryland Holdings, LLC, Reliant Energy Mid-Atlantic Power Holdings, LLC, Reliant Energy New Jersey Holdings, LLC, Reliant Energy Ormond Beach, LLC, Reliant Energy Osceola, LLC, Reliant Energy Shelby County, LP, Reliant Energy Services, Inc. and EL Dorado Energy, LLC (collectively, the Applicants), submitted an application pursuant to Section 203 of the Federal Power Act, seeking authorization for a proposed corporate restructuring and the resulting indirect transfer of jurisdictional facilities, and requesting expedited consideration and certain waivers.

The Applicants state that, as a result of a proposed corporate restructuring of certain of the Applicants' affiliates, there will be a transfer of indirect contol of Applicants' jurisdictional facilities. The Applicants further state that the proposed corporate Restructuring will have no effect on the jurisdictional facilities, nor will it have any effect on competition, rates or regulation.

Any person desiring to be heard or to protest such filing a motion to intervene or protest with the Federal Energy Regulatory Commission, 888 First Street, NE, Washington, DC 20426, in accordance with Rules 211 and 214 of the Commission's Rules of Practice and Procedure (18 CFR 385.211 and 385.214). All such motions and protests should be filed on or before October 18, 2000. Protests will be considered by the Commission to determine the appropriate action to be taken, but will not serve to make protestants parties to the proceedings. Any person wishing to become a party must file a motion to intervene. Copies of this filing are on file with the Commission and are available for public inspection. This filing may also be viewed on the Internet at http://www.ferc.fed.us/online/rims.htm (call 202-208-2222 for assistance).

David P. Boergers,
Secretary.

[FR Doc. 00-26554 Filed 10-16-00; 8:45 am]

BILLING CODE 6717-01-M